COMMITTEE FOR PURCHASE FROM PEOPLE WHO ARE BLIND OR SEVERELY DISABLED

Procurement List, Additions and Deletions

AGENCY: Committee for Purchase From People Who Are Blind or Severely Disabled.

ACTION: Additions to and Deletions from the Procurement List.

SUMMARY: This action adds products and services to the Procurement List that will be furnished by nonprofit agencies employing persons who are blind or have other severe disabilities, and deletes a product and service from the Procurement List previously furnished by such agencies.

DATES: Effective Date: 5/27/2013.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 2/8/2013 (78 FR 9386-9387); 2/22/2013 (78 FR 12296-12297); 3/1/2013 (78 FR 13868-13869); and 3/8/2013 (78 FR 15000), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN: 7930-00-NIB-0645—Detergent, Liquid, High-foaming, Car and Truck Washing, (4) 1-GL Container/BX

NSN: 7930-00-NIB-0647—Liquid Solution, Truck and Trailer Wash, 5 GL

NSN: 7930-00-NIB-0653—Protectant, Liquid, Water-Based, Vehicle Interior Surface, (4) 1-GL Container/BX

COVERAGE: A-List for the Total Government Requirement as aggregated by the General Services Administration.

NSN: 7930-00-NIB-0646—Detergent, Liquid, High-foaming, Car and Truck Washing, 5 GL

NSN: 7930-00-NIB-0648—Liquid Solution, Truck and Trailer Wash, 55 GL

NSN: 7930-00-NIB-0649—Cleaner/Degreaser, Heavy Duty, Biodegradable, Car and Trucks, 5 GL

NSN: 7930-00-NIB-0650—Cleaner/Degreaser, Heavy Duty, Biodegradable, Car and Trucks, 55 GL

NSN: 7930-00-NIB-0651—Liquid Solution, Concentrated, Vehicle, Wash and Shine, With Wax polymer, (4) 1-GL Container/BX

NSN: 7930-00-NIB-0652—Liquid Solution, Concentrated, Vehicle, Wash and Shine, W/Wax polymer, 5 GL

NSN: 7930-00-NIB-0654—Protectant, Liquid, Water-Based, Vehicle Interior Surface, 5 GL

NSN: 7930-00-NIB-0655—Cleaner, Wheel and Tire, 5 GL

NSN: 7930-00-NIB-0657—Bug Remover, Concentrated, Gelling, Vehicle, 5 GL

NSN: 7930-00-NIB-0666—Detergent, Oil and Water Separating, Heavy Duty, Biodegradable, Trucks and Trailers, 5 GL

NSN: 7930-00-NIB-0667—Detergent, Oil and Water Separating, Heavy Duty, Biodegradable, Trucks and Trailers, 55 GL

NPA: Susquehanna Association for the Blind and Vision Impaired, Lancaster, PA

Contracting Activity: GENERAL SERVICES ADMINISTRATION, FORT WORTH, TX

COVERAGE: B-List for the Broad Government Requirement as aggregated by the General Services Administration.

Portable Desktop Clipboard, 9½″ W x 1½″ D x 13½″ H

NSN: 7510-00-NIB-2133—Black

NSN: 7510-00-NIB-9835—Blue

NSN: 7510-00-NIB-9836—Army Green

NPA: L.C. Industries for the Blind, Inc., Durham, NC

Contracting Activity: GENERAL SERVICES ADMINISTRATION, NEW YORK, NY

COVERAGE: A-List for the Total Government Requirement as aggregated by the General Services Administration.

NSN: MR 318—Set, Mixing Bowl, Spill-Free, 3PC

NPA: Industries for the Blind, Inc., West Allis, WI

Contracting Activity: Defense Commissary Agency, Fort Lee, VA

COVERAGE: C-List for the requirements of military commissaries and exchanges as aggregated by the Defense Commissary Agency.

Services

Service Type/Location: Base Supply Center Service, Barnes Federal Building, 495 Summer Street, Boston, MA.

NPA: Industries for the Blind, Inc., West Allis, WI.

Contracting Activity: DEFENSE CONTRACT MANAGEMENT AGENCY (DCMA), DCMA PROCUREMENT CENTER, BOSTON, MA.

Service Type/Location: Custodial Service, Harrisonburg Courthouse, 116 North Main Street, Harrisonburg, VA.

NPA: Portco, Inc., Portsmouth, VA.

Contracting Activity: PUBLIC BUILDINGS SERVICE, GSA/PBS/R03 SOUTH SERVICE CENTER, PHILDELPHIA, PA.

Service Type/Location: Custodial Service, U.S. Army Reserve Center Facility, 15303 Andrews Road, Kansas City, MO.

NPA: JobOne, Independence, MO.

Contracting Activity: DEPT OF THE ARMY, W6QM MICC-ARCC NORTH, FORT McCOY, WI.

Service Type/Location: Custodial Service, Consumer Financial Protection Bureau, (Limited areas Floors 1, 3, 4), 1625 Eye Street NW., Washington, DC.

NPA: Service Disabled Veterans Business Association, Silver Springs, MD.

Contracting Activity: CONSUMER FINANCIAL PROTECTION BUREAU, CFPB PROCUREMENT, WASHINGTON, DC.

Deletions

On 3/15/2013 (78 FR 16475-16476) and 3/22/2013 (78 FR 17641-17642), the Committee for Purchase From People Who Are Blind or Severely Disabled published notices of proposed deletions from the Procurement List.

After consideration of the relevant matter presented, the Committee has determined that the product and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product and service to the Government.

3. There are no known regulatory alternatives which would accomplish the objectives of the Javits-Wagner-O'Day Act (41 U.S.C. 8501-8506) in connection with the product and service deleted from the Procurement List.

End of Certification

Accordingly, the following product and service are deleted from the Procurement List:

Product

NSN: 8345-01-101-1101—Shape, Day Maritime

NPA: None assigned.

Contracting Activity: DEFENSE LOGISTICS AGENCY TROOP SUPPORT, PHILADELPHIA, PA.

Service

Service Type/Location: CSS/Custodial/Warehousing Service, Commissary ANGB, 99 Pesch Circle, Building 420, Bangor, ME.

NPA: Pathways, Inc., Auburn, ME.

Contracting Activity: DEFENSE COMMISSARY AGENCY (DECA) FORT LEE, VA.

Barry S. Lineback,
Director, Business Operations.

[FR Doc. 2013-09885 Filed 4-25-13; 8:45 am]

BILLING CODE 6353-01-P